DEPARTMENT OF THE INTERIOR

Bureau of Land Management

[UT-912-01-1020-AE-24-1A]

Notice of Meeting of the Utah Resource Advisory Council

AGENCY: Bureau of Land Management, Interior.

ACTION: Notice of meeting of the Utah Resource Advisory Council.

SUMMARY: The Bureau of Land Management's Utah Statewide Resource Advisory Council (RAC) meeting will be held on November 8-9, 2000 in Bluff, Utah.

On November 8, from 1-4:30, the RAC will meet at Desert Rose Hotel, 701 West Main, Bluff, Utah. The Council will be given an overview of the Resource Advisory Council (RAC) in Utah, its past accomplishments and activities, some Utah specifics, and an overview of the BLM programs in general. A public comment period is scheduled on November 8 from 4-4:30 where members of the public may address the Council.

On November 9, from 8 a.m.-1 p.m., the RAC will be taking a field tour of Sand Island and the Butler Wash where they will be looking at cultural, recreation, wilderness, and visitation issues. The afternoon session (1-3:30 p.m.), at the Desert Rose Hotel, will include reports on Fire and Fire Rehabilitation and Off-Highway Vehicle issues, followed by an open discussion period. The meeting will conclude at 3:30.

All meetings of the BLM's Resource Advisory Council are open to the public; however, transportation, meals, and overnight accommodations are the responsibility of the participating public.

FOR FURTHER INFORMATION CONTACT: Sherry Foot, Special Programs Coordinator, Utah State Office, Bureau of Land Management, 324 South State Street, Salt Lake City, UT 84111; phone (801) 539-4195.

Dated: October 16, 2000.
Sally Wisely,
Utah BLM State Director.

[FR Doc. 00-26974 Filed 10-19-00; 8:45 am]

BILLING CODE 4310-$$-M